DEPARTMENT OF COMMERCE

International Trade Administration

(A-552-801)

Certain Frozen Fish Fillets from the Socialist Republic of Vietnam: Extension of Time Limit for Final Results of Changed Circumstances Review

EFFECTIVE DATE: January 14, 2009.

FOR FURTHER INFORMATION CONTACT: Javier Barrientos, AD/CVD Operations, Office 9, Import Administration, International Trade Administration, U.S. Department of Commerce, 14th Street and Constitution Avenue NW, Washington, DC 20230; telephone: (202) 482-2243.

Extension of Time Limit for Final Results

On August 10, 2007, the Department of Commerce (“Department”) issued its preliminary results for the changed circumstances review of the antidumping duty order of certain frozen fish fillets from the Socialist Republic of Vietnam (“Vietnam”). See Certain Frozen Fish Fillets from Vietnam: Notice of Initiation and Preliminary Results of Changed Circumstances Review, 72 FR 46604 (August 21, 2007) (Preliminary Results). In it, we stated we would issue the final results within 270 days after the date on which the changed circumstances review was initiated. We subsequently postponed that deadline until December 5, 2008. See Certain Frozen Fish Fillets from Vietnam: Extension of Time Limit for Final Results of Changed Circumstances Review, 73 FR 60240 (October 10, 2008). However, the Department now finds that it is not practicable to complete this review by December 5, 2008. Subsequent to the Preliminary Results and receipt of Vinh Hoan Co., Ltd./Corporation's and Petitioners' (the Catfish Farmers of America and individual U.S. catfish processors) case briefs, the Department requested and received new information from Vinh Hoan. Moreover, Vinh Hoan requested an extension to the time limit for submission of this new information. As a result, additional time is needed to review the information and prepare the results. Consequently, in accordance with 19 CFR 351.302(b), the Department is extending the time period for issuing the final results until February 18, 2009.

This notice is published in accordance with section 771(i) of the Tariff Act of 1930, as amended.

Dated: December 5, 2008.
Gary Taverman,
Acting Deputy Assistant Secretary for Antidumping and Countervailing Operations.

[FR Doc. E9-623 Filed 1-13-09; 8:45 am]

BILLING CODE 3510-DS-S